DEPARTMENT OF TRANSPORTATION

Federal Aviation Administration

14 CFR Part 71

[Airspace Docket No. 00-ANM-30]

Proposed Revision to Class D and Class E Airspace, Medford, OR

AGENCY: Federal Aviation Administration (FAA), DOT.

ACTION: Notice of Proposed Rulemaking.

SUMMARY: This action proposes to revise the Class D and Class E Airspace Area Descriptions at Medford, OR. A legal name change from Medford-Jackson Airport to Rogue Valley International-Medford Airport and a revision to Class E airspace areas made this action necessary. Additional Class E5 700-foot airspace is required to contain IFR approaches to the airport when the Air Traffic Control Tower is closed. The intended effect of this proposal is to correct the official Airport name and provide adequate controlled airspace for Instrument Flight Rules (IFR) operations at Rogue Valley International-Medford Airport, Medford, OR.

DATES: Comments must be received on or before October 1, 2001.

ADDRESSES: Send comments on the proposal in triplicate to: Manager, Airspace Branch, ANM-520, Federal Aviation Administration, Docket No. 00-ANM-30, 1601 Lind Avenue SW, Renton, Washington 98055-4056.

An informal docket may also be examined during normal business hours in the office of the Manager, Air Traffic Division, Airspace Branch, at the address listed above.

FOR FURTHER INFORMATION CONTACT: Brian Durham, AND-520.7, Federal Aviation Administration, Docket No. 00-ANM-30, 1601 Lind Avenue SW, Renton, Washington 980554056: telephone number: (425) 227-2527.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy related aspects of the proposal. Communications should identify the airspace docket number and be submitted in triplicate to the address listed above. Commenters wishing the FAA to acknowledge receipt of their comments on this action must submit, with those comments, as self-addressed stamped postcard on which the following statement is made: “Comments to Airspace Docket No. 00-ANM-30.” The postcard will be date/time stamped and returned to the commenter. All communications received on or before the specified closing date for comments will be considered before taking action on the proposed rule. The proposal contained in this action may be changed in the light of comments received. All comments submitted will be available for examination at the address listed above both before and after the closing date for comments. A report summarizing each substantive public contact with FAA personnel concerned with this rulemaking will be filed in the docket.

Availability of NPRM's

Any person may obtain a copy of this NPRM by submitting a request to the Federal Aviation Administration, Airspace Branch, ANM-520, 1601 Lind Avenue SW, Renton, Washington 98055-4056. Communications must identify the docket number of this NPRM. Persons interested in being placed on a mailing list for future NPRM's should also request a copy of Advisory Circular No. 11-2A, which describes the application procedure.

The Proposal

The FAA is considering an amendment to Title 14 Code of Federal Regulations, part 71 (14 CFR part 71) by revising the Class D and Class E legal descriptions and revising Class E airspace at Medford, OR. In 1992 the official name of the Medford Airport was changed from Medford-Jackson County Airport to Rogue Valley International-Medford Airport. This change was reflected in a number of aeronautical publications, but not officially changed in 14 CFR 71.1. This proposed action would correct the legal description of the Medford Airport to reflect its current designation and revise the Class E Airspace Class E5 700-foot airspace is required to contain IFR approaches to the airport when the Air Traffic Control Tower is closed. The intended effect of this rule is designed to revise the airspace legal descriptions to reflect the current name designation of the Rogue Valley International-Medford Airport, Medford Airport, Medford, OR, and to provide safe and efficient use of the navigable airspace to promote safe flight operations under Instrument Flight Rules (IFR) and Visual Flight Rules (VFR) at Rogue Valley International-Medford Airport, and between the terminal and en route transition states.

The area would be depicted on aeronautical charts for pilot reference. The coordinates for this airspace docket are based on North American Datum 83. Class D surface airspace areas are published paragraph 5000, Class E airspace ares designated as surface areas are published in Paragraph 6002, Class E airspace consisting of airspace extending upward from the surface designated as an extension of Class D airspace area are published in Paragraph 6004, and Class E airspace areas extending upward from 700-feet or more above the surface of the earth are published in Paragraph 6006, of FAA Order 7400.9H dated September 1, 2000, and effective September 16, 2000, which is incorporated by references in 14 CFR 71.1. The Class D & E airspace designations listed in this document would be published subsequently in the order.

The FAA has determined that this proposed regulation only involves and established body of technical regulations for which frequent and routine amendments are necessary to keep them operationally current. It, therefore, (1) is not a “significant regulatory action” under Executive Order 12866; (2) is not a “significant rule” under DOT Regulatory Policies and Procedures (44 FR 11013; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 5000 General

* * * * *

ANM OR D Medford, OR [REVISED]

Rogue Valley International-Medford Airport, OR

(lat. 42°22′27″N., long. 122°52′25″W.)

That airspace extending upwards from the surface to and including 3,800 feet MSL within a 4.1-mile radius of the Rogue Valley International-Medford airport. This Class D airspace area is effective during the specific dates and times established in advance by a Notice to Airmen. The effective date and time will thereafter be continuously published in the Airport/Facility Directory.

* * * * *

Paragraph 6002 Class E airspace designated as surface area for an airport

* * * * *

ANM OR E2 Medford, OR [REVISED]

Rogue Valley International-Medford Airport, OR

(lat. 42°22′27″N., long. 122°52′25″W.)

Within a 4.1-mile radius of Rogue Valley International-Medford airport. This Class E airspace is effective during specific dates and times established in advance by a Notice to Airmen. The effective date and time will thereafter be continuously published in the Airport/Facility Directory.

* * * * *

Paragraph 6004 Class E airspace consisting of airspace extending upward from the surface designated as an extension of Class D airspace

* * * * *

ANM OR E4 Medford, OR [REVISED]

Rogue Valley International-Medford Airport, OR

(lat. 42°22′27″N., long. 122°52′25″W.)

Rogue Valley VORTAC

(lat. 42°27′47″N., long. 122°54′47″W.)

Pumie LOM

(lat. 42°27′03″N., long. 122°54′48″W.)

That airspace extending upward from the surface within 1.8 miles west and 2.7 miles east of the Medford ILS localizer north course extending from the 4.1-mile radius to 2.7 miles north of the Pumie LOM and within 2.7 miles each side of the Rogue Valley VORTAC 352° radial extending from the Rogue Valley VORTAC to 11 miles north of the VORTAC, and within 4 miles each side of the Rogue Valley VORTAC 164° radial extending from the 4.1-mile radius to 19.3 miles south of the Rogue Valley International-Medford Airport. This Class E airspace is effective during specific dates and times established in advance by a Notice to Airmen. The effective date and time will thereafter be continuously published in the Airport/Facility Directory.

* * * * *

Paragraph 6005 Class E airspace areas extending upward from 700 feet or more above the surface of the earth

* * * * *

ANM OR E5 Medford, OR [REVISED]

Rogue Valley International-Medford Airport, OR

(lat. 42°22′27″N., long. 122°52′25″W.)

That airspace extending upward from 700 feet above the surface bounded by a line from lat. 42°45′00″N., long. 123°10′54″W.; to lat. 42°48′54″N., long. 122°57′06″W.; to lat. 42°44′00″N., long. 122°44′36″W.; to lat. 42°04′00″N., long. 122°30′00″W.; to lat. 41°56′30″N., long. 123°00′00″W.; to the point of origin; that airspace extending upward from 1,200 feet above the surface bounded by a line from lat. 43°00′00″N., long. 123°30′00″W.; to lat. 42°00′00″N., long. 122°10′30″W.; to lat. 41°43′40″N., long. 123°14′36″W.; to lat. 43°00′00″N., long. 123°10′00″W.; to the point of origin; excluding that airspace within Federal Airway areas, and the Klamath Falls, OR and Grants Pass, OR Class E airspace areas.

* * * * *

Issued in Seattle, Washington, on August 3, 2001.
Dan A. Boyle,
Assistant Manager, Air Traffic Division, Northwest Mountain Region.

[FR Doc. 01-20818 Filed 8-16-01; 8:45 am]

BILLING CODE 4910-13-M